DEPARTMENT OF THE INTERIOR

National Park Service

Notice of Intent to Repatriate Cultural Items in the Possession of the Connecticut State Museum of Natural History, University of Connecticut, Storrs, CT

AGENCY: National Park Service, Interior.

ACTION: Notice.

Notice is hereby given in accordance with the Native American Graves Protection and Repatriation Act (NAGPRA), 43 CFR 10.10 (a)(3), of the intent to repatriate cultural items in the possession of the Connecticut State Museum of Natural History, University of Connecticut that meet the definition of “unassociated funerary objects” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The 10 cultural items are a string of clamshell wampum beads, a brass arrow point, three stone pestles, an iron trade hatchet, an iron spike, a brass trade cooking pan, a brass trade kettle, and a brass button.

In 1942, these cultural items were removed during excavations related to a home lot development project from in Mystic, CT, and were sold by the property owner, Mr. Al Kowsz, to Mr. Norris L. Bull sometime thereafter. In 1963, the family of Norris L. Bull donated the cultural items to the University of Connecticut; the items were held by the Department of Anthropology at the University of Connecticut until 1994, when they were accessioned by the Connecticut State Museum of Natural History. Museum records indicate that the cultural items were found with the human remains of five Native American individuals. The Connecticut State Museum of Natural History is not in possession of the human remains from these burials.

Based on geographic and historical evidence, the area in which the burials were located coincides with the aboriginal territory of the Pequot Indians, and lies in close proximity to the site of the Pequot Fort attacked by John Mason in 1637. The stylistic attributes of the burial goods are consistent with a 17th century date for the burials. Members of the Mashantucket Pequot Tribe of Connecticut are the direct descendants of the Pequot Indians.

Based on the above-mentioned information, officials of the Connecticut State Museum of Natural History have determined that, pursuant to 43 CFR 10.2 (d)(2)(ii), the 10 cultural items listed above are reasonably believed to have been placed with or near individual human remains at the time of death or later as part of the death rite or ceremony and are believed, by a preponderance of the evidence, to have been removed from a specific burial site of a Native American individual. Officials of the Connecticut State Museum of Natural History also have determined that, pursuant to 43 CFR 10.2 (e), there is a relationship of shared group identity that can be reasonably traced between these unassociated funerary objects and the Mashantucket Pequot Tribe of Connecticut.

This notice has been sent to officials of the Mashantucket Pequot Tribe of Connecticut and the Mohegan Indian Tribe of Connecticut. Representatives of any other Indian tribe that believes itself to be culturally affiliated with these unassociated funerary objects should contact Nicholas F. Bellantoni, Connecticut State Archaeologist, Office of State Archaeology, University of Connecticut, Storrs, CT 06269-4214, telephone (860) 486-5248 before August 7, 2002. Repatriation of these unassociated funerary objects to the Mashantucket Pequot Tribe of Connecticut may begin after that date if no additional claimants come forward.

Dated: March 20, 2002.
Robert Stearns,
Manager, National NAGPRA Program.

[FR Doc. 02-17091 Filed 7-5-02 8:45 am]

BILLING CODE 4310-70-S